DEPARTMENT OF TRANSPORTATION

Federal Aviation Administration

Notice of Intent To Rule on Application 02-06-C-00-SAW To Impose and Use the Revenue From a Passenger Facility Charge (PFC) at Sawyer International Airport, Marquette, MI

AGENCY: Federal Aviation Administration (FAA), DOT.

ACTION: Notice of intent to rule on application.

SUMMARY: The FAA proposes to rule and invites public comment on the application to impose and use the revenue from a PFC at Sawyer International Airport under the provisions of the 49 U.S.C. 40117 and Part 158 of the Federal Aviation Regulations (14 CFR Part 158).

DATES: Comments must be received on or before May 28, 2002.

ADDRESSES: Comments on this application may be mailed or delivered in triplicate to the FAA at the following address: Federal Aviation Administration, Detroit Airports District Office, Willow Run Airport, East, 8820 Beck Road, Belleville, Michigan 48111. The application may be reviewed in person at this location.

In addition, one copy of any comments submitted to the FAA must be failed or delivered to Mr. Harold R. Pawley, Airport Manager, Sawyer International Airport at the following address: Sawyer International Airport, 225 Airport Avenue, Gwinn, Michigan 49841.

Air carriers and foreign air carriers may submit copies of written comments previously provided to the Sawyer International Airport under section 158.24 of Part 158.

FOR FURTHER INFORMATION CONTACT: Ms. Arlene B. Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Sawyer International Airport under the provisions of the 49 U.S.C. 40117 and part 158 of the Federal Aviation Regulations (14 CFR part 158).

On April 5, 2002 the FAA determined that the application to impose and use the revenue from a PFC submitted by Sawyer International Airport was substantially complete within the requirements of section 158.25 of part 158. The FAA will approve or disapprove the application, in whole or in part, not later than August 2, 2002.

The following is a brief overview of the application.

Proposed charge effective date: December 1, 2002.

Proposed charge expiration date: May 1, 2004.

Level of the proposed PFC: $4.50.

Total estimated PFC revenue: $227,558.

Brief description of proposed projects: North Access Road; Taxiway Rehabilitation; Passenger Boarding Bridge; Snow Removal Equipment; Runway Rehabilitation; Taxiway Signage; Refurbish Beacon.

Class or classes of air carriers which the public agency has requested to be required to collect PFCs: Marquette County has not requested approval to exclude a class or classes of carriers from the PFC collection requirements.

Any person may inspect the application in person at the FAA office listed above under FOR FURTHER INFORMATION CONTACT. In addition, any person may, upon request, inspect the application, notice and other documents germane to the application in person at the Sawyer International Airport, 225 Airport Avenue, Gwinn, Michigan 49841.

Issued in Des Plaines, Illinois on April 18, 2002.
Barbara J. Jordan,
Acting Manager, Planning and Programming Branch, Airports Division, Great Lakes Region.

[FR Doc. 02-10236 Filed 4-25-02; 8:45 am]

BILLING CODE 4910-13-M